DEPARTMENT OF COMMERCE

National Oceanic and Atmospheric Administration

50 CFR Part 635

[Docket No. 130402317-3966-02]

RIN 0648-XD281

Atlantic Highly Migratory Species; Commercial Gulf of Mexico Aggregated Large Coastal Shark and Gulf of Mexico Hammerhead Shark Management Groups

AGENCY: National Marine Fisheries Service (NMFS), National Oceanic and Atmospheric Administration (NOAA), Commerce.

ACTION: Temporary rule; closure.

SUMMARY: NMFS is closing the commercial aggregated large coastal sharks (LCS) and hammerhead sharks management groups in the Gulf of Mexico region. This action is necessary because the commercial landings of Gulf of Mexico aggregated LCS for the 2014 fishing season have exceeded 80 percent of the available commercial quota as of May 13, 2014.

DATES: The commercial Gulf of Mexico aggregated LCS and Gulf of Mexico hammerhead shark management groups are closed effective 11:30 p.m. local time May 20, 2014, until the end of the 2014 fishing season on December 31, 2014, or until and if NMFS announces via a notice in the Federal Register that additional quota is available and the season is reopened.

FOR FURTHER INFORMATION CONTACT: Karyl Brewster-Geisz or Alexis Jackson 301-427-8503; fax 301-713-1917.

SUPPLEMENTARY INFORMATION: The Atlantic shark fisheries are managed under the 2006 Consolidated Highly Migratory Species (HMS) Fishery Management Plan (FMP), its amendments, and its implementing regulations (50 CFR part 635) issued under authority of the Magnuson-Stevens Fishery Conservation and Management Act (16 U.S.C. 1801 et seq.).

Under 50 CFR 635.5(b)(1), dealers must electronically submit reports on sharks that are first received from a vessel on a weekly basis through a NMFS-approved electronic reporting system, received by NMFS no later than midnight, local time, of the first Tuesday following the end of the reporting week unless the dealer is otherwise notified by NMFS. Under § 635.28(b)(2), when NMFS calculates that the landings for any species and/or management group of a linked group have reached or are projected to reach 80 percent of the available quota, NMFS will file for publication with the Office of the Federal Register a notice of closure for all of the species and/or management groups in a linked group that will be effective no fewer than 5 days from date of filing. From the effective date and time of the closure until and if NMFS announces, via a notice in the Federal Register, that additional quota is available and the season is reopened, the fishery for all linked species and/or management groups is closed, even across fishing years.

On July 3, 2013 (78 FR 40318), NMFS announced the final rule for Amendment 5a to the 2006 Consolidated HMS FMP, which, among other things, established new quotas for aggregated LCS and hammerhead sharks in the Gulf of Mexico region and linked the Gulf of Mexico aggregated LCS and Gulf of Mexico hammerhead shark management groups. As a result of the quota linkage, when the quota for one management group is reached and is closed, the other management group closes at the same time. On November 26, 2013 (78 FR 70500), NMFS announced that the commercial Gulf of Mexico aggregated LCS quota for 2014 was 151.2 metric tons (mt) dressed weight (dw) (333,828 lb dw), and the Gulf of Mexico hammerhead shark quota was 25.3 mt dw (55,722 lb dw). Dealer reports recently received through May 13, 2014, indicate that 124.0 mt dw or 82 percent of the available Gulf of Mexico aggregated LCS quota has been landed, and that 10.7 mt dw or 42 percent of the available Gulf of Mexico hammerhead shark quota has been landed. Based on these dealer reports, NMFS estimates that the 80-percent limit specified for a closure notice in the regulations has been exceeded as of May 13, 2014. Accordingly, NMFS is closing both the commercial aggregated LCS and hammerhead management groups in the Gulf of Mexico region as of 11:30 p.m. local time May 20, 2014. All other shark species or management groups that are currently open will remain open, including the commercial Gulf of Mexico blacktip sharks.

At § 635.27(b)(1), the boundary between the Gulf of Mexico region and the Atlantic region is defined as a line beginning on the East Coast of Florida at the mainland at 25°20.4′ N. lat, proceeding due east. Any water and land to the south and west of that boundary is considered for the purposes of monitoring and setting quotas, to be within the Gulf of Mexico region.

During the closure, retention of aggregated LCS and hammerhead sharks in the Gulf of Mexico region is prohibited for persons fishing aboard vessels issued a commercial shark limited access permit under § 635.4. However, persons aboard a commercially permitted vessel that is also properly permitted to operate as a charter vessel or headboat for HMS and is engaged in a for-hire trip could fish under the recreational retention limits for sharks and “no sale” provisions (§ 635.22(a) and (c)). Similarly, persons aboard a commercially permitted vessel that possesses a valid shark research permit under § 635.32 and has a NMFS-approved observer onboard may continue to harvest and sell aggregated LCS and hammerhead sharks in the Gulf of Mexico region pursuant to the terms and conditions of the shark research permit.

During this closure, a shark dealer issued a permit pursuant to § 635.4 may not purchase or receive aggregated LCS and/or hammerhead sharks in the Gulf of Mexico region from a vessel issued an Atlantic Shark Limited Access Permit (LAP), except that a permitted shark dealer or processor may possess aggregated LCS and/or hammerhead sharks in the Gulf of Mexico region that were harvested, off-loaded, and sold, traded, or bartered prior to the effective date of the closure and were held in storage consistent with § 635.28(b)(5). Additionally, a permitted shark dealer or processor may possess aggregated LCS and/or hammerhead sharks in the Gulf of Mexico region that were harvested by a vessel issued a valid shark research fishery permit per § 635.32 with a NMFS-approved observer onboard during the trip the sharks were taken on as long as the LCS research fishery quota remains open. Similarly, a shark dealer issued a permit pursuant to § 635.4 may, in accordance with relevant state regulations, purchase or receive aggregated LCS and/or hammerhead sharks in the Gulf of Mexico region if the sharks were harvested, off-loaded, and sold, traded, or bartered from a vessel that fishes only in state waters and that has not been issued an Atlantic Shark LAP, HMS Angling permit, or HMS Charter/Headboat permit pursuant to § 635.4.

Classification

Pursuant to 5 U.S.C. 553(b)(B), the Assistant Administrator for Fisheries, NOAA (AA), finds that providing prior notice and public comment for this action is impracticable and contrary to the public interest because the fishery is currently underway and any delay in this action would result in overharvest of the quota and be inconsistent with management requirements and objectives. Similarly, affording prior notice and opportunity for public comment on this action is contrary to the public interest because if the quota is exceeded, the stock may be negatively affected and fishermen ultimately could experience reductions in the available quota and a lack of fishing opportunities in future seasons. For these reasons, the AA also finds good cause to waive the 30-day delay in effective date pursuant to 5 U.S.C. 553(d)(3). This action is required under § 635.28(b)(2) and is exempt from review under Executive Order 12866.

Authority: 16 U.S.C. 1801 et seq.

Dated: May 15, 2014.
Emily H. Menashes,
Acting Director, Office of Sustainable Fisheries, National Marine Fisheries Service.

[FR Doc. 2014-11599 Filed 5-15-14; 4:15 pm]

BILLING CODE 3510-22-P